DEPARTMENT OF VETERANS AFFAIRS

Advisory Committee on Disability Compensation, Notice of Meeting

The Department of Veterans Affairs (VA) gives notice under the Federal Advisory Committee Act, that a virtual meeting of the Advisory Committee on Disability Compensation (Committee) will be held on May 26-28, 2020, from 9:00 a.m. to 12:00 p.m. (Eastern Standard Time). The virtual meeting is open to the public.

The purpose of the Committee is to advise the Secretary of VA on the maintenance and periodic readjustment of the VA Schedule for Rating Disabilities. The Committee is to assemble and review relevant information relating to the nature and character of disabilities arising during service in the Armed Forces, provide an ongoing assessment of the effectiveness of the rating schedule, and give advice on the most appropriate means of responding to the needs of Veterans relating to disability compensation.

The agenda will include overview briefings on the VA Schedule for Rating Disabilities, the transition process for retiring and separating Reserve and National Guard members, and Individual Unemployability.

No time will be allocated at this virtual meeting for receiving oral presentations from the public. The public may submit written statements for the Committee's review to Janice Stewart, Department of Veterans Affairs, Veterans Benefits Administration, Compensation Service, Program Implementation Staff (211B), 810 Vermont Avenue NW, Washington, DC 20420 or email at Janice.Stewart@va.gov.

Members of the public who wish to receive an electronic copy of the itinerary for the meeting should contact Janice Stewart at Janice.Stewart@va.gov of the Veterans Benefits Administration, Compensation Service, Program Implementation Staff (211B) no later than May 19, 2020. For any members of the public that wish to attend virtually, they may use the call-in number at 1-800-767-1750; access code: 75937#.

Dated: April 30, 2020.
Jelessa M. Burney,
Federal Advisory Committee Management Officer.

[FR Doc. 2020-09611 Filed 5-4-20; 8:45 am]

BILLING CODE P